DEPARTMENT OF COMMERCE

International Trade Administration

[A-570-051]

Certain Hardwood Plywood Products From the People's Republic of China: Final Results of Antidumping Duty Administrative Review and Final Determination of No Shipments; 2021

AGENCY: Enforcement and Compliance, International Trade Administration, Department of Commerce.

SUMMARY: The U.S. Department of Commerce (Commerce) continues to determine that six exporters of certain hardwood plywood products (hardwood plywood) from the People's Republic of China (China) under review had no shipments of subject merchandise during the period of review (POR) January 1, 2021, through December 31, 2021. Commerce also continues to determine that the remaining 14 companies subject to this review are part of the China-wide entity, because they did not demonstrate eligibility for separate rates.

DATES: Applicable February 17, 2023.

FOR FURTHER INFORMATION CONTACT: Nicolas Mayora, AD/CVD Operations, Office V, Enforcement and Compliance, International Trade Administration, U.S. Department of Commerce, 1401 Constitution Avenue NW, Washington, DC 20230; telephone: (202) 482-3053.

SUPPLEMENTARY INFORMATION:

Background

On October 17, 2022, Commerce published the Preliminary Results of this administrative review.¹ We invited parties to comment on the Preliminary Results. A complete summary of the events that occurred since publication of the Preliminary Results may be found in the Issues and Decision Memorandum.²

¹ See Certain Hardwood Plywood from the People's Republic of China: Preliminary Results of Antidumping Duty Administrative Review and Preliminary Determination of No Shipments; 2021, 87 FR 62791 (October 17, 2022) (Preliminary Results).

² See Memorandum, “Issues and Decision Memorandum for the Final Results of the Administrative Review of the Antidumping Duty Order on Certain Hardwood Plywood Products from the People's Republic of China; 2021,” dated concurrently with, and hereby adopted by, this notice (Issues and Decision Memorandum).

Scope of the Order ³

³ See Certain Hardwood Plywood Products from the People's Republic of China: Amended Final Determination of Sales at Less Than Fair Value, and Antidumping Duty Order, 83 FR 504 (January 4, 2018) (Order).

The merchandise covered by the Order is hardwood plywood from China. A full description of the scope of the Order is contained in the Issues and Decision Memorandum.

Analysis of Comments Received

All issues raised in the case and rebuttal briefs are addressed in the Issues and Decision Memorandum. A list of the issues that parties raised and to which we responded in the Issues and Decision Memorandum is attached to this notice in Appendix II. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and the comment received from interested parties, we made no changes to the Preliminary Results.

Final Determination of No Shipments

Commerce preliminarily found that six exporters did not ship subject merchandise during the POR.⁴ As noted in the Preliminary Results, we received no-shipment statements from these exporters, and their statements were consistent with the information we received from U.S. Customs and Border Protection (CBP).⁵ Therefore, for these final results, we continue to find that these six exporters had no shipments of subject merchandise to the United States during the POR.

⁴ These six exporters are: (1) Cosco Star International Co., Ltd.; (2) Linyi Evergreen Wood Co., Ltd.; (3) Linyi Huasheng Yongbin Wood Co., Ltd.; (4) Linyi Sanfortune Wood Co., Ltd.; (5) Shanghai Luli Trading Co., Ltd.; (6) Suqian Hopeway International Trade Co., Ltd.

⁵ See Memoranda, “No Shipment Inquiry for Suqian Hopeway International Trade Co., Ltd. During the Period 01/01/2021 through 12/31/2021,” dated May 20, 2022; “No Shipment Inquiry for Shanghai Luli Trading Co., Ltd. During the Period 01/01/2021 through 12/31/2021,” dated May 20, 2022; and “No Shipment Inquiry for Certain Companies During the Period 01/01/2021 through 12/31/2021,” dated June 13, 2022 (collectively, CBP No Shipment Inquiries).

China-Wide Entity

With the exception of the aforementioned six exporters that submitted no-shipment certifications, we find all other companies for which a review was requested to be part of the China-wide entity. Accordingly, the companies listed in Appendix I are part of the China-wide entity.⁶

⁶ See Appendix I.

Because no party requested a review of the China-wide entity, we did not conduct a review of the China-wide entity. The rate previously established for the China-wide entity is 183.36 percent and is not subject to change as a result of this review.⁷

⁷ See Order.

Assessment Rates

We have not calculated any assessment rates in this administrative review. Based on record evidence, we have determined that the aforementioned six companies had no shipments of subject merchandise and, therefore, pursuant to Commerce's assessment practice, any suspended entries entered under their case numbers will be liquidated at the China-wide entity rate.⁸

⁸ See Non-Market Economy Antidumping Proceedings: Assessment of Antidumping Duties, 76 FR 65694 (October 24, 2011).

For all remaining companies subject to this review, which are part of the China-wide entity, we will instruct CBP to liquidate their entries at the current rate for the China-wide entity (i.e., 183.36 percent). Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication of the final results of this review for shipments of subject merchandise from China entered, or withdrawn from warehouse, for consumption on or after the publication date, as provided by sections 751(a)(2)(C) of the Tariff Act of 1930, as amended (the Act): (1) the cash deposit rates for the six companies that had no shipments during the POR will remain unchanged from the rates assigned to them in the most recently completed segment for each company; (2) for previously investigated or reviewed Chinese and non-Chinese exporters that have separate rates, and which were not assigned the China-wide rate in this review, the cash deposit rate will continue to be the exporter-specific rate published for the most recently completed segment of this proceeding; (3) for all Chinese exporters of subject merchandise that have not been found to be entitled to a separate rate (including the companies listed in Appendix I), the cash deposit rate will be that for the China-wide entity (i.e., 183.36 percent); and (4) for all non-Chinese exporters of subject merchandise which have not received their own rate, the cash deposit rate will be the rate applicable to the Chinese exporter that supplied that non-Chinese exporter. These cash deposit requirements, when imposed, shall remain in effect until further notice.

Notification to Importers

This notice also serves as a final reminder to importers of their responsibility under 19 CFR 315.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as the only reminder to parties subject to an administrative protective order (APO) of their responsibility concerning the return or destruction of proprietary information disclosed under APO, in accordance with 19 CFR 351.305(a)(3). Timely written notification of the return or destruction of APO materials or conversion to judicial protective order is hereby requested. Failure to comply with the regulations and terms of an APO is a violation subject to sanction.

Notification to Interested Parties

These final results are issued and published in accordance with sections 751(a)(1) and 777(i) of the Act, and 19 CFR 351.213(h).

Dated: February 10, 2023.
Lisa W. Wang,
Assistant Secretary for Enforcement and Compliance.

Appendix I

Companies Not Eligible for a Separate Rate

1. Anhui Hoda Wood Co., Ltd.

2. Happy Wood Industrial Group Co., Ltd.

3. Jiaxing Hengtong Wood Co., Ltd.

4. Linyi Chengen Import and Export Co., Ltd.

5. Linyi Glary Plywood Co., Ltd.

6. Linyi Jiahe Wood Industry Co., Ltd.

7. Qingdao Top P&Q International Corp.

8. Shanghai Brightwood Trading Co., Ltd.

9. Shanghai Futuwood Trading Co., Ltd.

10. Suzhou Oriental Dragon Import and Export Co., Ltd.

11. Xuzhou Jiangheng Wood Products Co., Ltd.

12. Xuzhou Jiangyang Wood Industries Co., Ltd.

13. Xuzhou Timber International Trade Co., Ltd.

14. Zhejiang Dehua TB Import & Export Co., Ltd.

Appendix II

List of Topics Discussed in the Issues and Decision Memorandum

I. Summary

II. Background

III. Scope of the Order

IV. Discussion of the Issue

Comment: Commerce Should Ensure that All Subject Merchandise Is Subject to the Appropriate Duties

V. Recommendation

[FR Doc. 2023-03329 Filed 2-16-23; 8:45 am]

BILLING CODE 3510-DS-P